DEPARTMENT OF THE INTERIOR

Office of the Secretary

[25XD4523WS/DWSN00000.000000/DS61500000/DP.61501]

Notice of Public Meeting of the Invasive Species Advisory Committee

AGENCY: National Invasive Species Council, Interior.

ACTION: Notice of public meeting.

SUMMARY: Pursuant to the provisions of the Federal Advisory Committee Act, notice is hereby given that a meeting of the Invasive Species Advisory Committee (ISAC) will meet as indicated below.

DATES: The Invasive Species Advisory Committee will convene by Zoom virtual platform on Tuesday, September 9, 2025, 1:00 p.m.-6:00 p.m. (EDT); Wednesday, September 10, 2025, 1:00 p.m.-6:00 p.m. (EDT); and, Thursday, September 11, 2025; 1:00 p.m.-6:00 p.m. (EDT).

ADDRESSES: The final agenda, Zoom URL and dial in information will be available on the National Invasive Species Council (NISC) website at least 48 hours in advance of the meeting at https://www.invasivespecies.gov.

FOR FURTHER INFORMATION CONTACT: For information concerning attending the ISAC meeting, submitting written comments to the ISAC, or requesting to address the ISAC, contact Kelsey Brantley, NISC Operations Director and ISAC Coordinator, National Invasive Species Council Staff, telephone (202) 577-7012; fax: (202) 208-4118, or email kelsey_brantley@ios.doi.gov.

Individuals in the United States who are deaf, deafblind, hard of hearing, or have a speech disability may dial 711 (TTY, TDD, or TeleBille) to access telecommunications relay services. Individuals outside the United States should use the relay services offered within their country to make international calls to the point of contact in the United States.

SUPPLEMENTARY INFORMATION: The purpose of the ISAC is to provide advice to the NISC, as authorized by Executive Orders 13112 and 13751, on a broad array of issues related to preventing the introduction of invasive species and providing for their control and minimizing the economic, ecological, and human health impacts that invasive species cause. The Secretaries of the Interior, Agriculture, and Commerce co-chair the NISC. The NISC provides national leadership regarding invasive species issues.

The purpose of a virtual meeting on Tuesday, September 9, 2025, through Thursday, September 11, 2025, is to convene the full ISAC to finalize and formally approve guidance developed by its subcommittees on two (2) topics requested by NISC: 1) the impacts of invasive species on food security; and 2) the impacts of invasive species on marine biosecurity.

Meeting Agenda: The meeting agenda will consist of an opening session with remarks from NISC member agencies, updates on priority NISC and NISC member agency activities, presentation of outputs from the ISAC's two subcommittees, continued deliberations by the subcommittees on outstanding issues, and full committee deliberations on formal adoption of the outputs. Opportunities for public comment will be provided before the conclusion of each meeting day.

The final agenda and other reference documents for discussion during the meeting will be available for public viewing as they become available, but no later than 48 hours prior to the start of the meeting at https://www.invasivespecies.gov.

Meeting Registration: All meeting participants and interested members of the public must register at https://forms.office.com/g/waKfikUSSq to attend the meeting virtually. Due to the limited connections available for virtual observation, individuals must register no later than Monday, September 8, 2025, 3:00 p.m. (ET).

Interested members of the public may provide either oral or written comments to ISAC for consideration. Oral comments may be given during designated times as specified in the meeting agenda. Written comments must be submitted by email to Kelsey Brantley at kelsey_brantley@ios.doi.gov, no later than Monday, September 8, 2025, 3:00 p.m. (ET). All written comments will be provided to members of the ISAC. Individuals who wish to expand upon their oral statements, or those who intended to speak but could not be accommodated on the agenda, may submit written comments to Kelsey Brantley at kelsey_brantley@ios.doi.gov, up to 30 days following the meeting.

All comments will be included in the public record and will be electronically distributed to all ISAC members. The detailed meeting minutes will be available for public inspection within 90 days of the meeting.

Meeting Accessibility/Special Accommodations: The meeting is open to the public. Registration is required (see Meeting Registration above). Please make requests in advance for sign language interpreter services, assistive listening devices, or other reasonable accommodations. We kindly request that you contact Kelsey Brantley at kelsey_brantley@ios.doi.gov, at least seven (7) business days prior to the meeting to ensure the Department of the Interior has sufficient time to process your request. All reasonable accommodation requests are managed on a case-by-case basis.

Public Disclosure of Comments: Before including your address, phone number, email address, or other personal identifying information in your written comments, you should be aware that your entire comment, including your personal identifying information, will be made publicly available. While you may request in your comment to withhold your personal identifying information from public review, we cannot guarantee that we will be able to do so.

Authority: 5 U.S.C. Ch. 10.

Stanley W. Burgiel,
Executive Director, National Invasive Species Council.

[FR Doc. 2025-16028 Filed 8-20-25; 8:45 am]

BILLING CODE 4334-63-P